DEPARTMENT OF ENERGY

Federal Energy Regulatory Commission

Combined Notice of Filings #1

November 5, 2008.

Take notice that the Commission received the following electric corporate filings:

Docket Numbers: EC09-13-000.

Applicants: Reliant Energy, Inc., FR Reliant Holding LP.

Description: Joint application of Reliant Energy, Inc. and FR Reliant Holdings LP for authorization for the indirect disposition of jurisdictional facilities.

Filed Date: 10/31/2008.

Accession Number: 20081104-0098.

Comment Date: 5 p.m. Eastern Time on Friday, November 21, 2008.

Docket Numbers: EC09-15-000.

Applicants: Fox Energy Company LLC, Fox Energy OP, L.P., Fox River Power, LLC.

Description: Application for Authorization of Disposition of Jurisdictional Facilities and Requests for Expedited Consideration and Confidential Treatment of Fox Energy Company LLC, et al.

Filed Date: 11/04/2008.

Accession Number: 20081104-5092.

Comment Date: 5 p.m. Eastern Time on Tuesday, November 25, 2008.

Take notice that the Commission received the following electric rate filings:

Docket Numbers: ER99-3502-008.

Applicants: Berkshire Power Company, LLC.

Description: Berkshire Power Company, LLC submits modifications to Compliance Filing under ER99-3502.

Filed Date: 10/31/2008.

Accession Number: 20081105-0080.

Comment Date: 5 p.m. Eastern Time on Friday, November 21, 2008.

Docket Numbers: ER08-100-005; ER07-265-005; ER07-1215-006.

Applicants: Sempra Energy Trading LLC; Sempra Energy Solutions LLC; The Royal Bank of Scotland plc.

Description: Notice of Change in Status Sempra Energy Trading LLC, et al. under ER08-100, et al.

Filed Date: 11/03/2008.

Accession Number: 20081103-5151.

Comment Date: 5 p.m. Eastern Time on Monday, November 24, 2008.

Docket Numbers: ER09-47-001.

Applicants: Alberta Power, LLC.

Description: Alberta Power, LLC submits an amended Petition for Acceptance of Initial Tariff (FERC Electric Tariff, Original Volume 1) and Waivers under ER09-47.

Filed Date: 10/31/2008.

Accession Number: 20081104-0031.

Comment Date: 5 p.m. Eastern Time on Friday, November 21, 2008.

Docket Numbers: ER09-138-000.

Applicants: FPL Energy Oliver Wind I, LLC.

Description: FPL Energy Oliver Wind I, LLC submits request for authorization to sell energy and capacity at market based rates and request for expedited action under ER09-138.

Filed Date: 10/28/2008.

Accession Number: 20081030-0119.

Comment Date: 5 p.m. Eastern Time on Tuesday, November 18, 2008.

Docket Numbers: ER09-173-000.

Applicants: Canandaigua Power Partners II, LLC.

Description: Cananadaigua Power Partners II, LLC's application for order accepting initial Market-Based Rate Tariff, Waiving Regulations, and granting blanket approvals under ER09-173.

Filed Date: 10/31/2008.

Accession Number: 20081104-0099.

Comment Date: 5 p.m. Eastern Time on Friday, November 21, 2008.

Docket Numbers: ER09-188-000.

Applicants: California Independent System Operator C.

Description: California Independent System Operator Corp submits an executed Amended and Restated Metered Subsystem Agreement under ER09-188.

Filed Date: 10/31/2008.

Accession Number: 20081103-0163.

Comment Date: 5 p.m. Eastern Time on Friday, November 21, 2008.

Docket Numbers: ER09-190-000.

Applicants: Dynegy Oakland, LLC.

Description: Dynegy Oakland, LLC submits Appendix A et al., revisions to certain Must-Run Rate Schedules of its Reliability Must Run Agreement with the California Independent System Operator Corporation under ER09-190.

Filed Date: 10/31/2008.

Accession Number: 20081104-0131.

Comment Date: 5 p.m. Eastern Time on Friday, November 21, 2008.

Docket Numbers: ER09-191-000.

Applicants: Dynegy South Bay, LLC.

Description: Dynegy South Bay, LLC submits Appendix A et al., revisions to certain Must-Run Rate Schedules of its Reliability Must Run Agreement with the California Independent System Operator Corporation under ER09-191.

Filed Date: 10/31/2008.

Accession Number: 20081104-0132.

Comment Date: 5 p.m. Eastern Time on Friday, November 21, 2008.

Docket Numbers: ER09-192-000.

Applicants: ISO New England Inc.

Description: ISO New England Inc submits Informational Filing of Contract with its Independent Market Monitoring Unit, Potomac Economics, Ltd under ER09-192.

Filed Date: 10/31/2008.

Accession Number: 20081104-0133.

Comment Date: 5 p.m. Eastern Time on Friday, November 21, 2008.

Docket Numbers: ER09-194-000.

Applicants: Mirant Potrero, LLC.

Description: Mirant Potrero, LLC submits revisions to its Must-Run Service Agreement with the California Independent System Operator Corporation under ER09-194.

Filed Date: 10/31/2008.

Accession Number: 20081104-0135.

Comment Date: 5 p.m. Eastern Time on Friday, November 21, 2008.

Docket Numbers: ER09-195-000.

Applicants: Xcel Energy Services, Inc.

Description: Public Service Company of Colorado submits Fourth Revised Sheet 7 et al. effective under ER09-195.

Filed Date: 10/31/2008.

Accession Number: 20081104-0136.

Comment Date: 5 p.m. Eastern Time on Friday, November 21, 2008.

Docket Numbers: ER09-196-000.

Applicants: Southern California Edison Company.

Description: Southern California Edison Company's CD'S containing a Notice of Cancellation a revised rate sheet to the Firm Transmission Service Agreement between SCE and the Imperial Irrigation District under ER09-196.

Filed Date: 10/31/2008.

Accession Number: 20081031-4011.

Comment Date: 5 p.m. Eastern Time on Friday, November 21, 2008.

Docket Numbers: ER09-197-000.

Applicants: ISO New England, Inc.

Description: ISO New England, Inc. submits administrative costs for calendar year 2009 under ER09-197.

Filed Date: 10/31/2008.

Accession Number: 20081104-0143.

Comment Date: 5 p.m. Eastern Time on Friday, November 21, 2008.

Docket Numbers: ER09-198-001.

Applicants: New York Independent System Operator, Inc.

Description: New York Independent System Operator, Inc. submits tariff sheets supplementing its 10/31/08 filing, request for shortened notice and comments periods, and request for expedited commission action etc. under ER09-198.

Filed Date: 11/04/2008.

Accession Number: 20081105-0103.

Comment Date: 5 p.m. Eastern Time on Monday, November 10, 2008.

Docket Numbers: ER09-201-000.

Applicants: Gilroy Energy Center, LLC.

Description: Gilroy Energy Center, LLC submits Exhibit C, annual revisions to certain Rate Schedules of its Reliability Must-Run Agreement with California Independent System Operator Corporation under ER09-201.

Filed Date: 10/31/2008.

Accession Number: 20081104-0137.

Comment Date: 5 p.m. Eastern Time on Friday, November 21, 2008.

Docket Numbers: ER09-202-000.

Applicants: Los Medanos Energy Center, LLC.

Description: Los Medanos Energy Center, LLC submits Exhibit C, annual revisions to certain Rate Schedules of its Reliability Must-Run Agreement with California Independent System Operator Corporation under ER09-202.

Filed Date: 10/31/2008.

Accession Number: 20081104-0138.

Comment Date: 5 p.m. Eastern Time on Friday, November 21, 2008.

Docket Numbers: ER09-203-000.

Applicants: New England Power Pool.

Description: The New England Power Pool submits transmittal letter along with the counterpart signature page of the NEPOOL Agreement, dated as of 9/1/71 as amended executed by the GenPower Trading, LLC et al. under ER09-203.

Filed Date: 10/31/2008.

Accession Number: 20081104-0139.

Comment Date: 5 p.m. Eastern Time on Friday, November 21, 2008.

Docket Numbers: ER09-204-000.

Applicants: Virginia Electric & Power Company.

Description: Dominion Virginia Power submits revised tariff sheets in Schedule 12-Appendix to the open-access transmission tariff administered by PJM Interconnection, LLC under ER09-204.

Filed Date: 10/31/2008.

Accession Number: 20081104-0140.

Comment Date: 5 p.m. Eastern Time on Friday, November 21, 2008.

Docket Numbers: ER09-205-000.

Applicants: National Grid Generation LLC.

Description: National Grid Generation LLC submits Original Sheet 86 et al. to FERC Electric Rate Schedule No. 1, to be effective 1/1/09 under ER09-205.

Filed Date: 10/31/2008.

Accession Number: 20081104-0045.

Comment Date: 5 p.m. Eastern Time on Friday, November 21, 2008.

Docket Numbers: ER09-206-000.

Applicants: Pasco Cogen, Ltd.

Description: Application of Pasco Cogen, Ltd. for market-based rate authority, expeditted action, associated waivers, blanket approvals etc. under ER09-206.

Filed Date: 10/31/2008.

Accession Number: 20081104-0044.

Comment Date: 5 p.m. Eastern Time on Friday, November 21, 2008.

Docket Numbers: ER09-207-000.

Applicants: NSTAR Electric Company.

Description: NSTAR Electric Co. submits a Transfer Agreement with H.Q. Energy Services (US) Inc. under ER09-207.

Filed Date: 10/31/2008.

Accession Number: 20081104-0043.

Comment Date: 5 p.m. Eastern Time on Friday, November 21, 2008.

Docket Numbers: ER09-208-000.

Applicants: Southwest Power Pool, Inc.

Description: Southwest Power Pool, Inc. submits an executed Service Agreement for Network Intergration Transmission Service under ER09-208.

Filed Date: 10/31/2008.

Accession Number: 20081104-0042.

Comment Date: 5 p.m. Eastern Time on Friday, November 21, 2008.

Docket Numbers: ER09-209-000.

Applicants: ISO New England Inc. and New England Power.

Description: ISO New England Inc et al. submits Second Revised Sheet 7317R et al. to FERC Electric Tariff No. 1, to be effective 12/31/08 under ER09-209.

Filed Date: 10/31/2008.

Accession Number: 20081104-0041.

Comment Date: 5 p.m. Eastern Time on Friday, November 21, 2008.

Docket Numbers: ER09-210-000.

Applicants: CalPeak Power—El Cajon, LLC.

Description: CalPeak Power LLC (CalPeak Entities) submits modifications to certain schedules contained in the Reliability Must-Run Service Agreement between each of the CalPeak Entities and the California Independent System Operator Corporation under ER09-210.

Filed Date: 10/31/2008.

Accession Number: 20081104-0040.

Comment Date: 5 p.m. Eastern Time on Friday, November 21, 2008.

Docket Numbers: ER09-211-000.

Applicants: Calpeak Power-Border, LLC.

Description: CalPeak Power LLC (CalPeak Entities) submits modifications to certain schedules contained in the Reliability Must-Run Service Agreement between each of the CalPeak Entities and the California Independent System Operator Corporation under ER09-210.

Filed Date: 10/31/2008.

Accession Number: 20081104-0040.

Comment Date: 5 p.m. Eastern Time on Friday, November 21, 2008.

Docket Numbers: ER09-212-000.

Applicants: CalPeak Power—Enterprise, LLC.

Description: CalPeak Power LLC (CalPeak Entities) submits modifications to certain schedules contained in the Reliability Must-Run Service Agreement between each of the CalPeak Entities and the California Independent System Operator Corporation under ER09-210.

Filed Date: 10/31/2008.

Accession Number: 20081104-0040.

Comment Date: 5 p.m. Eastern Time on Friday, November 21, 2008.

Docket Numbers: ER09-213-000.

Applicants: California Independent System Operator Corp.

Description: California Independent System Operator Corp submits an amendment to the CAISO Market Redesign and Technology Upgrade Tariff under ER09-213.

Filed Date: 10/31/2008.

Accession Number: 20081104-0039.

Comment Date: 5 p.m. Eastern Time on Friday, November 21, 2008.

Docket Numbers: ER09-215-000.

Applicants: Pittsfield Generating Company, L.P.

Description: Pittsfield Generating Co, LP submits First Revised Sheet 1 et al. to FERC Electric Tariff, Original Volume No. 1, to be effective 1/1/09 under ER09-215.

Filed Date: 10/31/2008.

Accession Number: 20081104-0038.

Comment Date: 5 p.m. Eastern Time on Friday, November 21, 2008.

Docket Numbers: ER09-216-000.

Applicants: Oklahoma Gas and Electric Company.

Description: Oklahoma Gas and Electric Co. submits an amendment to the 8/4/00 Interconnection Agreement with ONEOK Power Marketing Co. under ER09-216.

Filed Date: 10/31/2008

Accession Number: 20081104-0037.

Comment Date: 5 p.m. Eastern Time on Friday, November 21, 2008.

Docket Numbers: ER09-217-000.

Applicants: Arizona Public Service Company.

Description: Arizona Public Service Co. submits a substitute non-confirming service agreement for retail network integration transmission service etc under ER09-217.

Filed Date: 10/31/2008.

Accession Number: 20081104-0036.

Comment Date: 5 p.m. Eastern Time on Friday, November 21, 2008.

Docket Numbers: ER09-218-000.

Applicants: Southern California Edison Company.

Description: Southern California Edison Co. First Revised Sheet 2 et al. to FERC Electric Tariff, First Revised Volume No. 5, to be effective 1/3/09 under ER09-218.

Filed Date: 11/03/2008.

Accession Number: 20081104-0035.

Comment Date: 5 p.m. Eastern Time on Monday, November 24, 2008.

Docket Numbers: ER09-219-000.

Applicants: Duke Energy Carolinas, LLC.

Description: Duke Energy Carolinas, LLC submits Sixth Revised Service Agreement No. 208 Intergration Service Agreement etc under ER09-219 et al.

Filed Date: 11/03/2008.

Accession Number: 20081104-0027.

Comment Date: 5 p.m. Eastern Time on Monday, November 24, 2008.

Docket Numbers: ER09-220-000.

Applicants: Duke Energy Carolinas, LLC.

Description: Duke Energy Carolinas, LLC submits Sixth Revised Service Agreement No. 208 Intergration Service Agreement etc under ER09-219 et al.

Filed Date: 11/03/2008.

Accession Number: 20081104-0027.

Comment Date: 5 p.m. Eastern Time on Monday, November 24, 2008.

Docket Numbers: ER09-221-000.

Applicants: Duke Energy Carolinas, LLC.

Description: Duke Energy Carolinas, LLC submits Sixth Revised Service Agreement No. 208 Intergration Service Agreement etc under ER09-219 et al.

Filed Date: 11/03/2008.

Accession Number: 20081104-0027.

Comment Date: 5 p.m. Eastern Time on Monday, November 24, 2008.

Docket Numbers: ER09-222-000.

Applicants: MidAmerican Energy Company.

Description: MidAmerican Energy Co. submits a Network Integration Transmission Service Agreement and Network Operating Agreement with Interstate Power and Light Co. under ER09-222.

Filed Date: 11/03/2008.

Accession Number: 20081104-0033.

Comment Date: 5 p.m. Eastern Time on Monday, November 24, 2008.

Docket Numbers: ER09-223-000.

Applicants: Virginia Electric and Power Company.

Description: Virginia Electric and Power Co. submits an executed Mutual Operating Agreement with Northern Virginia Electric Cooperative under ER09-223.

Filed Date: 10/31/2008.

Accession Number: 20081104-0034.

Comment Date: 5 p.m. Eastern Time on Friday, November 21, 2008.

Docket Numbers: ER09-224-000.

Applicants: Southwest Power Pool, Inc.

Description: Southwest Power Pool, Inc. submits revised pages to its Open Access Transmission Tariff intended to implement a rate update for Westar Energy, Inc etc. under ER09-224.

Filed Date: 10/31/2008.

Accession Number: 20081104-0032.

Comment Date: 5 p.m. Eastern Time on Friday, November 21, 2008.

Docket Numbers: ER09-225-000.

Applicants: Duke Energy Carolinas, LLC.

Description: Duke Energy Carolinas, LLC submits Rate Schedule No. 335, the Requirements Power Purchase Agreement with Haywood Electric Membership Corp dated as of 10/10/08 under ER09-225.

Filed Date: 10/31/2008.

Accession Number: 20081104-0046.

Comment Date: 5 p.m. Eastern Time on Friday, November 21, 2008.

Take notice that the Commission received the following open access transmission tariff filings:

Docket Numbers: OA07-82-002.

Applicants: Duke Energy Carolinas, LLC.

Description: Duke Energy Carolinas, LLC submits Attachment C Compliance Filing under OA07-82.

Filed Date: 11/05/2008.

Accession Number: 20081105-5070.

Comment Date: 5 p.m. Eastern Time on Wednesday, November 26, 2008.

Docket Numbers: OA08-62-003.

Applicants: California Independent System Operator C.

Description: The California Independent System Operator Corporation submits the Commission's 6/19/08 Order on Compliance under OA08-62.

Filed Date: 10/31/2008

Accession Number: 20081104-0026.

Comment Date: 5 p.m. Eastern Time on Friday, November 21, 2008.

Docket Numbers: OA09-10-000.

Applicants: PJM Interconnection, L.L.C.

Description: PJM Interconnection, L.L.C. submits their Notification Filing pursuant to PJM Open Access Transmission Tariff and FERC's 6/25/08 Order under OA09-10.

Filed Date: 10/30/2008.

Accession Number: 20081103-0199.

Comment Date: 5 p.m. Eastern Time on Thursday, November 20, 2008.

Docket Numbers: OA09-11-000.

Applicants: Black Hills Power, Inc., et al.

Description: Black Hills Power, Inc et al. submits a revised version of Attachment K to the OATT in compliance with FERC's Order 890 under OA09-11.

Filed Date: 10/31/2008.

Accession Number: 20081103-0162.

Comment Date: 5 p.m. Eastern Time on Friday, November 21, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-27021 Filed 11-13-08; 8:45 am]

BILLING CODE 6717-01-P